DEPARTMENT OF ENERGY

Federal Energy Regulatory Commission

[Docket No. PF09-9-000]

ETC Tiger Pipeline, LLC; Notice of Intent To Prepare an Environmental Assessment for the Proposed Tiger Pipeline Project, Request for Comments on Environmental Issues and Notice of Public Scoping Meetings

May 15, 2009.

The staff of the Federal Energy Regulatory Commission (FERC or Commission) is in the process of preparing an environmental assessment (EA) that will discuss the environmental impacts that could result from the construction and operation of the Tiger Pipeline Project. The project is planned by ETC Tiger Pipeline, LLC (ETC Tiger) to transport natural gas from the Haynesville and Barnett Shale production areas to markets in the Midwest, Northeast, and Southeast.

This Notice of Intent (NOI) initiates the scoping process that will be used to gather input from the public and interested agencies on the project. Your input will help determine which issues will be evaluated in the EA. The staff will also use the scoping process to determine whether preparation of an environmental impact statement (EIS) is more appropriate for this project based upon the anticipated level of impacts. Please note that the scoping period for this project will close on June 29, 2009.

Comments may be submitted in written or verbal form. Further details on how to submit written comments are provided in the Public Participation section of this notice. In lieu of or in addition to sending written comments, the Commission Staff invites you to attend the public scoping meetings scheduled as follows.

Date and time | Location
Monday, June 8, 2009, 7 p.m. (CDT) | Delhi Civic Center, 232 Denver Street, Delhi, Louisiana 71232.
Tuesday, June 9, 2009, 7 p.m. (CDT) | Jackson Parish Community Center, 182 Industrial Drive, Jonesboro, Louisiana 71251.
Thursday, June 11, 2009, 7 p.m. (CDT) | Texas Country Music Hall of Fame, 300 West Panola Street, Carthage, Texas 75633.

Interested groups and individuals are encouraged to attend the meetings and to present comments on the environmental issues they believe should be addressed in the EA. A transcript of the meetings will be generated so that your comments will be accurately recorded.

The FERC will be the lead Federal agency in the preparation of an EA or EIS that will satisfy the requirements of the National Environmental Policy Act (NEPA) and will be used by the FERC to consider the environmental impacts that could result if the Commission issues ETC Tiger a Certificate of Public Convenience and Necessity (Certificate) under Section 7 of the Natural Gas Act.

This NOI is being sent to Federal, State, and local government agencies; elected officials; affected landowners; environmental and public interest groups; Indian Tribes and regional Native American organizations; commentors and other interested parties; and local libraries and newspapers. We ¹ encourage government representatives to notify their constituents of this planned project and encourage them to comment on their areas of concern.

¹ “We,” “us,” and “our” refer to the environmental staff of the FERC's Office of Energy Projects.

If you are a landowner receiving this notice, you may be contacted by an ETC Tiger representative about the acquisition of an easement to construct, operate, and maintain the proposed facilities. ETC Tiger would seek to negotiate a mutually acceptable agreement. However, if the project is approved by the FERC, that approval conveys with it the right of eminent domain. Therefore, if easement negotiations fail to produce an agreement, ETC Tiger could initiate condemnation proceedings in accordance with State law.

A fact sheet prepared by the FERC entitled “An Interstate Natural Gas Facility on My Land? What Do I Need To Know?” is available for viewing on the FERC Internet Web site (http://www.ferc.gov/for-citizens/citizen-guides.asp). This fact sheet addresses a number of typically asked questions, including the use of eminent domain and how to participate in FERC's proceedings.

Summary of the Proposed Project

ETC Tiger has announced its proposal to construct and operate a new natural gas pipeline and associated structures with a flow capacity of 2.0 billion cubic feet per day (Bcf/d). The project would consist of an approximate 174-mile, 42-inch-diameter pipeline running from the Carthage Hub in Panola County, Texas to the Perryville Hub in Richland Parish, Louisiana. ETC Tiger states that the Tiger Pipeline would transport natural gas from the growing Haynesville Shale production area to Midwest, Northeast, and Southeast markets through seven interconnects with other major interstate natural gas pipelines and one bi-directional interconnect with an existing intrastate pipeline at the Carthage Hub. In addition, the Tiger Pipeline would transport gas from the Barnett shale production area through its interconnection with Houston Pipe Line Company (Houston Pipe Line). The Project would provide a critical link between natural gas production in the Haynesville and adjacent Barnett shales and existing pipeline infrastructure in the region.

The Project is designed with a capacity of up to 1.0 Bcf/d from the Carthage Hub to Louisiana State Highway 789 and up to 2.0 Bcf/d from Louisiana State Highway 789 to the end of the pipeline. More specifically, ETC Tiger proposes the following facilities:

• 174 miles of 42-inch-diameter natural gas pipeline in Panola County, Texas; and Caddo, De Soto, Red River, Bienville, Jackson, Ouachita, and Richland Parishes, Louisiana;

• Four mainline compressor stations with approximately 113,000 combined horsepower (hp) in Panola County, Texas; and Red River Parish, Bienville Parish, and Jackson Parish, Louisiana;

• Ancillary facilities, including interconnects and pig ² launchers and receivers;

² A pig is an internal tool that can be used to clean and dry a pipeline and/or to inspect it for damage or corrosion.

• Receipt and delivery meter stations: 15 receipt meters, 7 delivery meters, and one bidirectional meter.

A location map depicting the proposed pipeline and compressor stations is attached to this NOI as Appendix 1.³

³ The appendices referenced in this notice are not being printed in the Federal Register. Copies can be obtained from the Commission's Web site at the “eLibrary” link, from the Commission's Public Reference Room, or by calling (202) 502-8371. For instructions on connecting to “eLibrary”, refer to the end of this notice. Copies of the appendices were sent to all those receiving this notice in the mail.

Land Requirements for Construction

As currently estimated by ETC Tiger, construction of the Tiger Pipeline Project would require about 3,407 acres of land, including pipeline, aboveground facilities, appurtenant facilities, pipe storage and contractor yards, and access roads. Following construction, about 1,588 acres would be used for operation of the project facilities. The areas disturbed during construction but not required for operation would generally be allowed to revert to pre-construction use and condition.

The EA Process

NEPA requires the Commission to take into account the environmental impacts that could result from an action whenever it considers the issuance of a Certificate. NEPA also requires us to discover and address concerns the public may have about proposals. This process is referred to as “scoping.” The main goal of the scoping process is to focus the analysis in the EA on the important environmental issues. By this NOI, the Commission staff requests public comments on the scope of the issues to address in the EA. All comments received will be considered during the preparation of the EA. State and local government representatives are encouraged to notify their constituents of this proposed action and encourage them to comment on their areas of concern.

In the EA we will discuss impacts that could occur as a result of the construction and operation of the proposed Project under these general headings:

• Geology and soils;

• Land use;

• Water resources, fisheries, and wetlands;

• Cultural resources;

• Vegetation and wildlife;

• Air quality and noise;

• Endangered and threatened species; and

• Public safety.

We will also evaluate possible alternatives to the proposed Project or portions of the Project, and make recommendations on how to avoid, minimize, or mitigate impacts on the various resource areas.

Although no formal application has been filed, we have already initiated our NEPA review under the Commission's Pre-Filing Process. The purpose of the Pre-Filing Process is to encourage early involvement of interested stakeholders and to identify and resolve issues before an application is filed with the FERC. As part of our Pre-Filing Process review, we have begun to contact some Federal and State agencies to discuss their involvement in the scoping process and the preparation of the EA. In addition, representatives from the FERC participated in public open houses sponsored by ETC Tiger in the project area in April 2009 to explain the environmental review process to interested stakeholders.

Our independent analysis of the issues will be in the EA. Depending on the comments received during the scoping process, the EA may be published and mailed to Federal, State, and local agencies; public interest groups; interested individuals; affected landowners; newspapers; libraries; and the Commission's official service list for this proceeding. A comment period will be allotted for review following publication of the EA. We will consider all comments on the EA before we make our recommendations to the Commission. To ensure your comments are considered, please carefully follow the instructions in the Public Participation section below.

With this NOI, we are asking Federal, State, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified issues that we think deserve attention based on a preliminary review of the proposed facilities and our previous experience with similar projects in the region. This preliminary list of issues, which is presented below, may be revised based on your comments and our continuing analyses specific to the Tiger Pipeline Project.

• Potential effects on prime farmland soils and soils with a high potential for compaction.

• Potential effects on waterbodies designated under Federal and/or State programs, including the Sabine River, Saline Bayou, and Black Lake Bayou.

• Potential impacts to waterbird nesting areas along major river crossings.

• Potential impacts to wetland reserve program (WRP) and conservation reserve program (CRP) parcels of land.

• Potential effects on Federally and State-listed species, including interior least tern, red cockaded woodpecker, Louisiana black bear, pallid sturgeon, Earth fruit, and Louisiana pine snake.

• Potential impacts to existing land uses, including agricultural and forested lands.

• Potential visual effects of the aboveground facilities on surrounding areas.

• Alternative alignments for the pipeline route and alternative sites for the compressor stations.

• Assessment of the effect of the proposed project when combined with other past, present, or reasonably foreseeable future actions in the project area.

We usually limit the allowed construction right-of-way to a default width of 75 feet or that described in the Certificate application, unless modified by a Certificate condition. Both of the recently constructed large diameter (42-inch) natural gas pipelines in the proposed project area utilized a nominal 100-foot-wide construction right-of-way width in uplands and 75-foot-wide construction right-of-way in wetlands with additional temporary workspace, as required for specific construction requirements or techniques. ETC Tiger has proposed a range of right-of-way widths: 125 to 150 feet in uplands, depending on land use; and 75 to 125 feet in wetlands, depending on cover type and length of wetland crossing. We will be evaluating ETC Tiger's proposed construction right-of-way width configurations and justification and encourage your comments on this issue. A complete summary of the proposed right-of-way widths can be found in Appendix 1C of ETC Tiger's draft resource report 1 which can be obtained on the Commission's Web site through the “eLibrary” link.

Public Participation

You can make a difference by providing us with your specific comments or concerns about the Tiger Pipeline Project. Your comments should focus on the potential environmental effects, reasonable alternatives, and measures to avoid or lessen environmental impacts. The more specific your comments, the more useful they will be. To ensure that your comments are timely and properly recorded, please send in your comments so that they will be received in Washington, DC on or before June 29, 2009.

For your convenience, there are three methods you can use to submit your written comments to the Commission. In all instances please reference the project's Docket Number PF09-9-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 1, PJ-11.2.

Becoming an Intervenor

Once ETC Tiger formally files its application with the Commission you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission.

Environmental Mailing List

Everyone who responds to this notice or provides comments throughout the EA process will be retained on the mailing list. If you do not want to send comments at this time but want to stay informed and receive a copy of the EA, you must return the Mailing List Retention Form (Appendix 2). If you do not send comments or return the Mailing List Retention Form asking to remain on the mailing list, you will be taken off the mailing list.

Additional Information

Additional information about the project is available from the Commission's Office of External Affairs at 1-866-208-FERC (3372), or on the FERC's Web site (http://www.ferc.gov) using the “eLibrary” link. Click on the “eLibrary” link, select “General Search”, and enter the project docket number, excluding the last three digits (i.e., PF09-9) in the “Docket Number” field. Be sure you have selected an appropriate date range. For assistance with “eLibrary”, the “eLibrary” helpline can be reached at 1-866-208-3676, TTY (202) 502-8659, or by e-mail at FERCOnlineSupport@ferc.gov. The “eLibrary” link on the FERC Web site also provides access to the texts of formal documents issued by the Commission, such as orders, notices, and rule makings.

In addition, FERC now offers a free service called “eSubscription” that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, ETC Tiger has established a Web site for this project at http://www.tigerpipeline.com. The Web site includes a project overview, timeline, safety and environmental information, and answers to frequently asked questions. You can also request additional information by e-mailing or writing ETC Tiger directly:

Mr. Joey Mahmoud, ETC Tiger Pipeline, LLC, 711 Louisiana Street, Houston, Texas 77002-2716, Joey.Mahmoud@energytransfer.com, 281-714-2042.

R. Leon Banta, ETC Tiger Pipeline, LLC, 4300 Youree Drive, Building #1, Shreveport, LA 71105, leon.banta@energytransfer.com, 318-841-0266.

Kimberly D. Bose,
Secretary.

[FR Doc. E9-12075 Filed 5-22-09; 8:45 am]

BILLING CODE 6717-01-P